DEPARTMENT OF COMMERCE

National Oceanic and Atmospheric Administration

RIN 0648-XF297

Pacific Fishery Management Council (Pacific Council); Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet April 6-11, 2017. The Pacific Council meeting will begin on Friday, April 7, 2017 at 9 a.m. Pacific Daylight Time (PDT), reconvening at 8 a.m. each day through Tuesday, April 11, 2017. All meetings are open to the public, except a closed session will be held from 8 a.m. to 9 a.m., Friday, April 7 to address litigation and personnel matters. The Pacific Council will meet as late as necessary each day to complete its scheduled business.

ADDRESSES: The meetings of the Pacific Council and its advisory entities will be held at the Doubletree by Hilton Hotel Sacramento, 2001 Point West Way, Sacramento, CA; telephone: (916) 929-8855.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council Web site, http://www.pcouncil.org for the current meeting location, proposed agenda, and meeting briefing materials.

SUPPLEMENTARY INFORMATION: The April 6-11, 2017 meeting of the Pacific Council will be streamed live on the Internet. The broadcasts begin initially at 9 a.m. PT Friday, April 8, 2017 and continue at 8 a.m. daily through Tuesday, April 11, 2017. Broadcasts end daily at 6 p.m. PT or when business for the day is complete. Only the audio portion and presentations displayed on the screen at the Pacific Council meeting will be broadcast. The audio portion is listen-only; you will be unable to speak to the Pacific Council via the broadcast. To access the meeting online please use the following link: http://www.gotomeeting.com/online/webinar/join-webinar and enter the April Webinar ID, 897-986-459, and your email address. You can attend the webinar online using a computer, tablet, or smart phone, using the GoToMeeting application. It is recommended that you use a computer headset to listen to the meeting, but you may use your telephone for the audio portion only of the meeting. The audio portion may be attended using a telephone by dialing the toll number 1-562-247-8422 (not a toll-free number), audio access code 862-846-290, and enter the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.4, Proposed Council Meeting Agenda, and will be in the advance April 2017 briefing materials and posted on the Pacific Council Web site at www.pcouncil.org no later than Friday, March 24, 2017.

A. Call to Order

1. Opening Remarks

2. Roll Call

3. Executive Director's Report

4. Approve Agenda

B. Open Comment Period

1. Comments on Non-Agenda Items

C. Administrative Matters

1. Marine Planning Update

2. Legislative Matters

3. Membership Appointments and Council Operating Procedures

4. Future Council Meeting Agenda and Workload Planning

D. Habitat

1. Current Habitat Issues

E. Salmon Management

1. Sacramento River Winter Chinook Harvest Control Rule Review

2. Methodology Review Preliminary Topic Selection

3. Tentative Adoption of 2017 Ocean Salmon Management Measures for Analysis

4. Clarify Council Direction on 2017 Management Measures

5. Final Action on 2017 Salmon Management Measures

F. Groundfish Management

1. National Marine Fisheries Service Report

2. Final Action on Electronic Monitoring of Non-Whiting Midwater and Bottom Trawl Fisheries Regulations and Update on Exempted Fishing Permit (EFP)

3. Salmon Endangered Species Act (ESA) Consultation Recommendations

4. Trawl Catch Shares and Intersector Allocation Progress Reports and Cost Recovery Report

5. Groundfish Non-Salmon Endangered Species Workgroup Report

6. Final Action on Inseason Adjustments

7. Updated Coordinates for the 125 Fathom Rockfish Conservation Area Line in California

8. Sablefish Electronic Ticket Reporting Requirements

G. Coastal Pelagic Species Management

1. National Marine Fisheries Service Report

2. Central Subpopulation of the Northern Anchovy (CSNA) Overfishing Limit (OFL) Process

3. Methodology Review Planning

4. Small-Scale Fishery Management Final Action

5. Final Action on Sardine Assessment, Specifications, and Management Measures

H. Pacific Halibut Management

1. Final Incidental Landing Restrictions for the 2017-2018 Salmon Troll Fishery

Advisory Body Agendas

Advisory body agendas will include discussions of relevant issues that are on the Pacific Council agenda for this meeting, and may also include issues that may be relevant to future Council meetings. Proposed advisory body agendas for this meeting will be available on the Pacific Council Web site http://www.pcouncil.org/council-operations/council-meetings/current-briefing-book/ no later than Friday, March 24, 2017.

Schedule of Ancillary Meetings

Day 1—Thursday, April 6, 2017

Groundfish Electronic Monitoring PAC & TAC—8 a.m.

Habitat Committee—8 a.m.

Salmon Advisory Subpanel—8 a.m.

Salmon Technical Team—8 a.m.

Sacramento River Winter Chinook Workgroup—8 a.m.

Model Evaluation Workgroup—8 a.m.

Scientific and Statistical Committee—10:30 a.m.

Legislative Committee—2 p.m.

Tribal Policy Group—Ad Hoc

Tribal and Washington Technical Group—Ad Hoc

Day 2—Friday, April 7, 2017

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Salmon Advisory Subpanel—8 a.m.

Salmon Technical Team—8 a.m.

Scientific and Statistical Committee—8 a.m.

Enforcement Consultants—3 p.m.

Tribal Policy Group—Ad Hoc

Tribal and Washington Technical Group—Ad Hoc

Day 3—Saturday, April 8, 2017

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Salmon Advisory Subpanel—8 a.m.

Salmon Technical Team—8 a.m.

Enforcement Consultants—Ad Hoc

Tribal Policy Group—Ad Hoc

Tribal and Washington Technical Group—Ad Hoc

Day 4—Sunday, April 9, 2017

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Salmon Advisory Subpanel—8 a.m.

Salmon Technical Team—8 a.m.

Enforcement Consultants—Ad Hoc

Tribal Policy Group—Ad Hoc

Tribal and Washington Technical Group—Ad Hoc

Day 5—Monday, April 10, 2017

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—Ad Hoc

Tribal Policy Group—Ad Hoc

Tribal and Washington Technical Group—Ad Hoc

Day 6—Tuesday, April 11, 2017

California State Delegation—7 a.m.

Oregon State Delegation—7 a.m.

Washington State Delegation—7 a.m.

Groundfish Advisory Subpanel—8 a.m.

Groundfish Management Team—8 a.m.

Salmon Technical Team—8 a.m.

Enforcement Consultants—Ad Hoc

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2280, ext. 411 at least 10 business days prior to the meeting date.

Dated: March 15, 2017.
Tracey L. Thompson,
Acting Deputy Director, Office of Sustainable Fisheries, National Marine Fisheries Service.

[FR Doc. 2017-05445 Filed 3-17-17; 8:45 am]

BILLING CODE 3510-22-P